Proclamation 8182 of September 28, 2007

National Disability Employment Awareness Month, 2007

By the President of the United States of America

A Proclamation

National Disability Employment Awareness Month is an opportunity to recognize the contributions and accomplishments of Americans with disabilities and to underscore our Nation's commitment to advancing employment opportunities for all our citizens.

Americans with disabilities strengthen our country's workforce, and their achievements help keep our Nation the world's economic leader. Landmark reforms such as the Americans with Disabilities Act of 1990 have helped to ensure that individuals with disabilities are better able to engage in productive work and participate fully in the life of our Nation. It is important that we continue to expand on these opportunities for Americans with disabilities by eliminating the barriers and false perceptions that hinder them from joining the workforce. By enhancing the workplace environment for people with disabilities, employers can help provide access to jobs that allow these individuals to demonstrate their potential and realize their dreams.

Since 2001, my New Freedom Initiative has helped promote the full participation of people with disabilities in all areas of society, including education, training, and employment. Programs such as “Ticket to Work” and services at One-Stop Career Centers have helped improve access to employment training and placement services for individuals who want to work. Throughout the Federal Government, we have worked to improve access to jobs for individuals with disabilities and to promote greater inclusiveness in the workforce. Individuals and employers can learn more about the Federal Government's disability-related programs by visiting DisabilityInfo.gov. We will continue to build on the progress that has been made for individuals with disabilities and will work to ensure that our Nation remains a place of opportunity for all Americans.

To recognize the contributions of Americans with disabilities and to encourage all citizens to ensure equal opportunity in the workforce, the Congress (36 U.S.C. 121) has designated October of each year as “National Disability Employment Awareness Month.”

NOW, THEREFORE, I, GEORGE W. BUSH, President of the United States of America, do hereby proclaim October 2007 as National Disability Employment Awareness Month. I call upon Government officials, labor leaders, employers, and the people of the United States to observe this month with appropriate programs, ceremonies, and activities.

IN WITNESS WHEREOF, I have hereunto set my hand this twenty-eighth day of September, in the year of our Lord two thousand seven, and of the Independence of the United States of America the two hundred and thirty-second.

[FR Doc. 07-4937

Filed 10-2-07; 8:49 am]

Billing code 3195-01-P